DEPARTMENT OF ENERGY

Federal Energy Regulatory Commission

[Docket Nos. RP00-410-000 and RP01-8-000]

Mississippi River Transmission Corporation; Notice of Technical Conference

July 2, 2001.

On July 17, 2000, Mississippi River Transmission Corporation (MRT) submitted a filing to comply with Order No. 637. Several parties filed comments or protests addressing various aspects of MRT's filing. In addition, on October 2, 2000, MRT submitted a filing to comply with section 284.12(c)(2)(ii) of the Commission's regulations.¹ No party protested the filing.

¹ 18 CFR 284.12(c)(2)(ii).

Take notice that a technical conference to discuss the various issues raised by MRT's filings will be held on Wednesday, July 25, 2001, at 10:00 a.m., in a room to be designated at the offices of the Federal Energy Regulatory Commission, 888 First Street, NE, Washington, D.C. 20426. Parties protesting aspects of MRT's filing in compliance with Order No. 637 should be prepared to discuss alternatives.

All interested parties and Staff are permitted to attend.

David P. Boergers,
Secretary.

[FR Doc. 01-17067 Filed 7-6-01; 8:45 am]

BILLING CODE 6717-01-M